POSTAL SERVICE

International Product Change—Global Plus 5

AGENCY: Postal Service™.

ACTION: Notice.

SUMMARY: The Postal Service gives notice of filing a request with the Postal Regulatory Commission to add the Global Plus 5 product to the Competitive Products List.

DATES: Date of notice: December 27, 2018.

FOR FURTHER INFORMATION CONTACT: Kyle R. Coppin, 202-268-2368.

SUPPLEMENTARY INFORMATION: The United States Postal Service® hereby gives notice that, pursuant to 39 U.S.C. 3642, on December 19, 2018, it filed with the Postal Regulatory Commission a Request of the United States Postal Service to add Global Plus 5 to the Competitive Products List. Documents are available at www.prc.gov, Docket Nos. MC2019-59 and CP2019-63.

Christopher C. Meyerson,
Attorney, Corporate and Postal Business Law.

[FR Doc. 2018-28026 Filed 12-26-18; 8:45 am]

BILLING CODE 7710-12-P